DEPARTMENT OF HEALTH AND HUMAN SERVICES

Centers for Disease Control and Prevention

Ethics Subcommittee, Advisory Committee to the Director, Centers for Disease Control and Prevention (CDC)

In accordance with section 10(a)(2) of the Federal Advisory Committee Act (Pub. L. 92-463), the Centers for Disease Control and Prevention announces the following Subcommittee meeting:

Time and Date: 10:30 a.m.-12:30 p.m., September 24, 2009.

Place: The teleconference call will originate at the Centers for Disease Control and Prevention in Atlanta, Georgia. Please see “Supplementary Information” for details on accessing the teleconference.

Status: Open to the public, teleconference access limited only by availability of telephone ports. The public is welcome to participate during the public comment period which is tentatively scheduled from 12:15 p.m.-12:25 p.m.

Purpose: The Ethics Subcommittee will provide counsel to the ACD, CDC, regarding a broad range of public health ethics questions and issues arising from programs, scientists and practitioners.

Matters To Be Discussed: The teleconference agenda will include ethical guidance for ventilator distribution during a pandemic, update on CDC's public health ethics activities, and follow-up on outstanding activities/reports.

Agenda items are subject to change as priorities dictate.

Supplementary Information: This conference call is scheduled to begin at 10:30 a.m. To participate in the teleconference, please dial 1/866/919-3560 and enter conference code 4168828. You will then be automatically entered into the call.

Contact Person for More Information: Drue Barrett, PhD, Designated Federal Officer, Ethics Subcommittee, CDC, 1600 Clifton Road, NE., M/S D-50, Atlanta, Georgia 30333. Telephone (404/639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: September 1, 2009.
Elaine L. Baker,
Director, Management Analysis and Services Office, Centers for Disease Control and Prevention.

[FR Doc. E9-21920 Filed 9-9-09; 8:45 am]

BILLING CODE 4163-18-P